DEPARTMENT OF TRANSPORTATION

Office of the Secretary

[Order 2006-7-3; Docket OST-2006-25307]

Notice of Order Extending Comment Period for Show-Cause; International Air Transport Association Tariff Conference Proceeding

AGENCY: Office of the Secretary, Department of Transportation.

SUMMARY: The Department has directed all interested persons to show cause why it should not issue an order withdrawing its approval under 49 U.S.C. 41309 for an International Air Transport Association (“IATA”) agreement, the Provisions for the Conduct of the IATA Traffic Conferences, insofar as that agreement establishes tariff conferences whereby IATA's member carriers discuss and agree upon passenger fares and cargo rates for U.S.-Australia/Europe markets. The Department is extending the due date for comments on that order from August 21 to October 20, 2006. Replies will be due November 20, 2006.

DATES: Objections must be submitted on or before October 20. Answers to objections must be filed by November 20, 2006.

ADDRESSES: Objections and answers to objections must be filed in Docket number OST-2006-25307 by one of the following means:

(1) By mail to the Docket Management Facility, U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) Electronically through the Webs site for the Docket Management System at http://www.dms.dot.gov. Comments must be filed in Docket OST-2006-25307.

FOR FURTHER INFORMATION CONTACT: John Kiser, Pricing & Multilateral Affairs Division (X-43, Room 6424), U.S. Department of Transportation, 400 Seventh St. SW., Washington, DC 20590, (202) 366-2435; or Thomas Ray, Office of the General Counsel (C-30, Room 4102), U.S. Department of Transportation, 400 Seventh St. SW., Washington, DC 20590, (202) 366-4731.

Dated: August 16, 2006.
Michael W. Reynolds,
Acting Assistant Secretary for Aviation and International Affairs.

[FR Doc. E6-13958 Filed 8-22-06; 8:45 am]

BILLING CODE 4910-9X-P